DEPARTMENT OF TRANSPORTATION

Federal Transit Administration

[FTA Docket No. FTA-2016-0012]

Agency Information Collection Activity Under OMB Review

AGENCY: Federal Transit Administration, DOT.

ACTION: Notice of request for comments.

SUMMARY: The Federal Transit Administration invites public comment about its intention to request the Office of Management and Budget's (OMB) approval to renew the following information collection:

Transit Research, Development, Demonstration and Training Projects

The Federal Transit Administration's Research, Development, Demonstration, Deployment, Cooperative Research, Technical Assistance, Standards Development, and Human Resources and Training programs are authorized at 49 U.S.C. 5312, 5313, 5314, and 5322 and collectively seek to develop solutions that improve public transportation. Its primary goals are to increase transit ridership, improve safety and emergency preparedness, improve operating efficiencies, protect the environment, promote energy independence, and provide transit research leadership; develop and conduct workforce development activities, training and educational programs for Federal, State, and local transportation employees, United States citizens, and foreign nationals engaged or to be engaged in Government-aid relating to public transportation work; and to sponsor development of voluntary and consensus-based standards to more effectively and efficiently provide transit service, as well as support the improved administration of Federal transit funds. To accomplish this, FTA funds projects to support research and development, demonstration, deployments of various technologies and operational models for transit; a national cooperative research program, a national training institute, national technical assistance centers, and transit workforce development programs. The Federal Register notice with a 60-day comment period soliciting comments for the Transit Research, Development, Demonstration and Training Projects was published on December 21, 2015 (Citation 80 FR 244). No comments were received from that notice.

DATES: Comments must be submitted before March 28, 2016. A comment to OMB is most effective, if OMB receives it within 30 days of publication.

FOR FURTHER INFORMATION CONTACT: Tia Swain, Office of Administration, Office of Management Planning, (202) 366-0354.

SUPPLEMENTARY INFORMATION: Title: Transit Research, Development, Demonstration and Training Projects (OMB Number: 2132-0546).

Abstract: The Transit Research, Development, Demonstration and Training Projects program supports research not undertaken by the private sector including studies on transit policy issues, operational efficiency, and travel behavior. Funding also provides for training and educational programs which may include courses in recent developments, techniques, and procedures related to intermodal and public transportation planning; management; environmental factors; acquisition and joint use rights-of-way; engineering and architectural design; procurement strategies for public transportation systems; new technologies; emission reduction technologies; way to make public transportation accessible to individuals with disabilities; construction, construction management, insurance, and risk management; maintenance; contract administration; inspection; innovative finance; workplace safety; and public transportation security. The program also funds innovative workforce development activities in areas with special emphasis on targeting areas with high unemployment; provide advanced training related to maintenance of alternative energy efficient or zero emission vehicle; and address current or projected workforce shortages in areas that require technical expertise. In addition, it will provide for the development of voluntary and consensus-based standards and best practices by the public transportation industry, including standards and best practices for safety, fare collection, Intelligent Transportation Systems, accessibility, procurement, security, asset management to maintain a state of good repair, operations, maintenance, vehicle propulsion, communications, and vehicle electronics.

Estimated Total Burden: 20,550 hours.

ADDRESSES: All written comments must refer to the docket number that appears at the top of this document and be submitted to the Office of Information and Regulatory Affairs, Office of Management and Budget, 725 17th Street NW., Washington, DC 20503, Attention: FTA Desk Officer.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology.

William Hyre,
Deputy Associate Administrator for Administration.

[FR Doc. 2016-04126 Filed 2-25-16; 8:45 am]

BILLING CODE P